DEPARTMENT OF ENERGY

Federal Energy Regulatory Commission

[Docket No. CP04-101-000]

Columbia Natural Resources, LLC; Notice of Petition for a Declaratory Order

April 23, 2004.

Take notice that on April 5, 2004, Columbia Natural Resources, LLC (Columbia) filed in Docket No. CP04-101-000, pursuant to Rule 207(a)(2) of the Rules of Practice and Procedure of the Federal Energy Regulatory Commission (Commission), a petition for a declaratory order with respect to natural gas gathering facilities recently acquired from NiSource, Inc. Specifically, Columbia requests that the Commission declare and find that it has all necessary authorizations to enable it to receive and transport gas to delivery points on such facilities in the same manner as the authorization in Gatherco, Inc., 90 FERC ¶ 61,211 (2000).

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date and, to the extent applicable, must be served on the applicant and on any other person designated on the official service list. This filing is available for review at the Commission or may be viewed on the Commission's Web site at http://www.ferc.gov, using the “e-Library” (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: May 10, 2004.

Magalie R. Salas,
Secretary.

[FR Doc. E4-980 Filed 4-30-04; 8:45 am]

BILLING CODE 6717-01-P